FEDERAL COMMUNICATIONS COMMISSION

47 CFR Part 64

[CG Docket Nos. 13-24 and 03-123; DA 18-818]

Petitions for Reconsideration of Action in Rulemaking Proceeding

AGENCY: Federal Communications Commission.

ACTION: Petitions for reconsideration.

SUMMARY: The Consumer and Governmental Affairs Bureau seeks comment on two Petitions for Reconsideration (Petitions).

DATES: Oppositions to the Petitions must be filed on or before September 7, 2018. Replies to oppositions must be filed on or before September 17, 2018.

ADDRESSES: Federal Communications Commission, 445 12th Street SW, Washington, DC 20554.

FOR FUTHER INFORMATION CONTACT: Michael Scott, Consumer and Governmental Affairs Bureau, at: (202) 418-1264; email: Michael.Scott@fcc.gov.

SUPPLEMENTARY INFORMATION: This is a summary of the Commission's document, DA 18-818, released August 6, 2018. The full text of the Petitions is available for viewing and copying at the FCC Reference Information Center, 445 12th Street SW, Room CY-A257, Washington, DC 20554. It also may be accessed online via the Commission's Electronic Comment Filing System at: https://ecfsapi.fcc.gov/file/107272931103590/Sprint%20Petition%20for%20Reconsideration%20REDACTED%20VERSION%20filed%20072718.pdf and https://ecfsapi.fcc.gov/file/107091809005003/Sprint%20Petition%20re%20ASR%20filed%20070918.pdf. The Commission will not send a Congressional Review Act (CRA) submission to Congress or the Government Accountability Office pursuant to the CRA, 5 U.S.C. because no rules are being adopted by the Commission.

Subject: IP CTS Modernization Reform, Report and Order and Declaratory Ruling, FCC 18-79, published at 83 FR 30082, June 27, 2018, in CG Docket Nos. 13-24 and 03-123. This document is being published pursuant to 47 CFR 1.429(e). See also 47 CFR 1.4(b)(1) and 1.429(f), (g).

Number of Petitions Filed: 2.

Petitions for Reconsideration have been filed in the Commission's Rulemaking proceeding by Scott R. Freiermuth, on behalf of Sprint Corporation.

Federal Communications Commission.
Eliot Greenwald,
Deputy Chief, Disability Rights Office, Consumer and Governmental Affairs Bureau.

[FR Doc. 2018-18248 Filed 8-22-18; 8:45 am]

BILLING CODE 6712-01-P